DEPARTMENT OF HOMELAND SECURITY

Coast Guard

33 CFR Part 165

[Docket No. USCG-2008-0561]

RIN 1625-AA08

Lake Union, Seattle, WA

AGENCY: Coast Guard, DHS.

ACTION: Notice of enforcement of regulation.

SUMMARY: The Coast Guard will enforce the Lake Union, Seattle, WA Safety Zone in Lake Union from 9:30 p.m. to 11 p.m. on July 4th, 2008. This action is necessary to ensure the safety of participants and spectators during the Lake Union, Seattle, WA (Ivar's Fireworks Show). During the enforcement period, entry into the Safety Zone is prohibited unless authorized by the Captain of the Port, Puget Sound, Seattle, WA. The Captain of the Port may establish transit lanes along the east and west shorelines of Lake Union and may allow boaters to transit north and south through the safety zone in these lanes. If established, these transit lanes will remain open until 10 p.m. and then be closed until the end of the fireworks display.

DATES: The regulations in 33 CFR 165.1306 will be enforced from 9:30 p.m. to 11 p.m. on July 4th, 2008.

FOR FURTHER INFORMATION CONTACT: Ensign Heidi Bevis, c/o Captain of the Port Puget Sound, Coast Guard Sector Seattle, 1519 Alaskan Way South, Seattle, WA 98134 at (206) 217-6002.

SUPPLEMENTARY INFORMATION: The Coast Guard will enforce the safety zone for the Lake Union, Seattle, WA Fireworks Show, 33 CFR 165.1306 on July 4th, 2008, from 9:30 p.m. to 11 p.m.

This safety zone provides for a regulated area to protect spectators. Movements are regulated for all vessels in the area as described under 33 CFR § 165.1306 or unless otherwise regulated by the COTP or his designee. The Coast Guard may be assisted by other Federal, State, or local law enforcement agencies in enforcing this safety zone.

Under the provisions of 33 CFR 165.1306, all portions of the waters of Lake Union bounded by the following coordinates: Latitude 47°38′32″ N, Longitude 122°20′34″ W; thence to Latitude 47°38′32″ N, Longitude 122°19′48″ W; thence to Latitude 47°38′10″ N, Longitude 122°20′24″ W; thence returning to the origin. This safety zone begins 1,000 feet south of Gas Works Park and encompasses all waters from east to west for 2,500 feet. Floating markers will be placed by the sponsor of the fireworks demonstration to delineate the boundaries of the safety zone.

The Coast Guard may be assisted by other Federal, State, or local law enforcement agencies in enforcing this regulation.

This notice is issued under authority of 33 CFR 165.1306(c) and 5 U.S.C. 552(a).

Dated: June 18, 2008.
Stephen P. Metruck,
Captain, U.S. Coast Guard, Captain of the Port Puget Sound.

[FR Doc. E8-15032 Filed 7-1-08; 8:45 am]

BILLING CODE 9110-04-P